NATIONAL AERONAUTICS AND SPACE ADMINISTRATION

[Notice (10-017)]

NASA Advisory Council; Space Operations Committee; Meeting

AGENCY: National Aeronautics and Space Administration.

ACTION: Notice of meeting.

SUMMARY: In accordance with the Federal Advisory Committee Act, Public Law 92-463, as amended, the National Aeronautics and Space Administration announces a meeting of the Space Operations Committee of the NASA Advisory Council.

DATES: Wednesday, February 17, 2010, 9 a.m.-12 p.m. EST.

ADDRESSES: NASA Headquarters, 300 E Street, SW., Washington, DC 20456, Room 2U22.

FOR FURTHER INFORMATION CONTACT: Mr. Jacob Keaton, NAC Space Operations Committee Executive Secretary, National Aeronautics and Space Administration Headquarters, Washington, DC 20546, 202/358-1507.

SUPPLEMENTARY INFORMATION: The agenda for the meeting includes the following topics:

—NASA Space Operations Mission Directorate Update

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Space Operation Committee meeting in Room 2U22. All non-U.S. citizens must fax a copy of their passport, and print or type their name, current address, citizenship, company affiliation (if applicable) to include address, telephone number, and their place of birth, date of birth, U.S. visa information to include type, number, expiration date, U.S. Social Security Number (if applicable), and place and date of entry into the U.S., fax to Jacob Keaton, NASA Advisory Council Space Operations Executive Secretary at 202-358-2885 by no later than February 10, 2010. To expedite admittance, U.S. attendees can provide identifying information in advance by contacting Mr. Jacob Keaton via e-mail at Jacob.keaton@nasa.gov or by telephone at (202) 358-1507. Persons with disabilities who require assistance should indicate this.

Dated: January 29, 2010.
P. Diane Rausch,
Advisory Committee Management Officer, National Aeronautics and Space Administration.

[FR Doc. 2010-2280 Filed 2-2-10; 8:45 am]

BILLING CODE P